DEPARTMENT OF AGRICULTURE

U.S. Codex Office

Codex Alimentarius Commission: Meeting of the Codex Committee on Residues of Veterinary Drugs in Foods

AGENCY: U.S. Codex Office, USDA.

ACTION: Notice of public meeting and request for comments.

SUMMARY: The U.S. Codex Office is sponsoring a public meeting on October 1, 2024. The objective of the public meeting is to provide information and receive public comments on agenda items and draft U.S. positions to be discussed at the 27th Session of the Codex Committee on Residues of Veterinary Drugs in Foods (CCRVDF) of the Codex Alimentarius Commission (CAC), which will meet in Omaha, Nebraska, from October 21-25, 2024. The U.S. Manager for Codex Alimentarius and the Under Secretary for Trade and Foreign Agricultural Affairs recognize the importance of providing interested parties the opportunity to obtain background information on the 27th Session of the CCRVDF and to address items on the agenda.

DATES: The public meeting is scheduled for October 1, 2024, from 2-4 p.m. ET.

ADDRESSES: The public meeting will take place via video teleconference only. Documents related to the 27th Session of the CCRVDF will be accessible via the internet at the following address: https://www.fao.org/fao-who-codexalimentarius/meetings/detail/pt/?meeting=CCRVDF&session=27.

Dr. Jonathan Greene, U.S. Delegate to the 27th Session of the CCRVDF, invites interested U.S. parties to submit their comments electronically to the following email address: Johnathan.greene1@fda.hhs.gov.

Registration: Attendees may register to attend the public meeting at the following link: https://www.zoomgov.com/meeting/register/vJIsdeirqD4pHzJ0pShiJTaIwXbnR8lqyTA. After registering, you will receive a confirmation email containing information about joining the meeting.

For further information about the 27th Session of the CCRVDF, contact U.S. Delegate Dr. Jonathan M. Greene, Biologist, Residue Chemistry Team, HFV 151, Division of Human Food Safety, Office of New Animal Drug Evaluation, Center for Veterinary Medicine, U.S. Food and Drug Administration, by email at: Johnathan.greene1@fda.hhs.gov or by phone at (240) 402-4697. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through the adoption of food standards, codes of practice, and other guidelines developed by its committees, and by promoting their adoption and implementation by governments, Codex seeks to protect the health of consumers and ensure fair practices in the food trade.

The Terms of Reference of the Codex Committee on Residues of Veterinary Drugs in Foods (CCRVDF) are:

(a) to determine priorities for the consideration of residues of veterinary drugs in foods;

(b) to recommend maximum levels of such substances;

(c) to develop codes of practice as may be required; and,

(d) to consider methods of sampling and analysis for the determination of veterinary drug residues in foods.

The CCRVDF is hosted by the United States. The United States attends the CCRVDF as a member country of Codex.

Issues To Be Discussed at the Public Meeting

The following items from the Provisional Agenda for the 27th Session of the CCRVDF will be discussed during the public meeting:

• Matters arising from the Codex Alimentarius Commission and its subsidiary bodies

• Information on activities of the FAO and WHO and other international organizations relevant to the work of CCRVDF including JECFA

• Matters of Interest arising from the Joint FAO/International Atomic Energy Agency (IAEA) Centre

• Matters of interest arising from the World Organisation for Animal Health (WOAH, formerly OIE), including the Veterinary International Conference on Harmonization (VICH)

• MRLs for veterinary drugs in foods arising from JECFA98 (2024)

• Extrapolation of MRLs for veterinary drugs in foods

○ Extrapolated MRLs for different combinations of compounds/commodities

○ Other matters related to the extrapolation of MRLs for veterinary drugs in foods to one or more species

• Criteria and procedures for the establishment of action levels for unintended and unavoidable carryover of veterinary drugs from feed to food of animal origin

• Coordination of work between the Codex Committee on Pesticide Residues (CCPR) and CCRVDF

• Priority list of veterinary drugs for evaluation or re-evaluation by JECFA

• Other business and future work

Public Meeting

At the October 1, 2024, public meeting, draft U.S. positions on the agenda items will be described and discussed, and attendees will have the opportunity to pose questions and offer comments. Written comments may be offered at the meeting or sent to Dr. Jonathan Greene, U.S. Delegate to the 27th Session of the CCRVDF, at Johnathan.greene1@fda.hhs.gov. Written comments should state that they relate to activities of the 27th Session of the CCRVDF.

Additional Public Notification

Public awareness of all segments of rulemaking and policy development is important. Consequently, the U.S. Codex Office will announce this Federal Register publication online through the USDA Codex web page located at: http://www.usda.gov/codex, a link that also offers an email subscription service providing access to information related to Codex. Customers can add or delete their subscriptions themselves and have the option to password-protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on August 6, 2024.
Julie A. Chao,
Deputy U.S. Manager for Codex Alimentarius.

[FR Doc. 2024-17825 Filed 8-9-24; 8:45 am]

BILLING CODE 3420-3F-P